DEPARTMENT OF THE TREASURY

Fiscal Service

Surety Companies Acceptable on Federal Bonds Notice of Merger, Name Change, and Change in Underwriting Limitation

AGENCY: Financial Management Service, Fiscal Service, Department of the Treasury.

ACTION: Notice.

SUMMARY: This is Supplement No. 13 to the Treasury Department Circular 570; 2003 Revision, published July 1, 2003, at 68 FR 39186.

FOR FURTHER INFORMATION CONTACT: Surety Bond Branch at (202) 874-6765.

SUPPLEMENTARY INFORMATION: The Guarantee Company of North America USA (NAIC #37443), a Michigan corporation, has formally merged with and into Mid-State Surety Corporation (NAIC #36650), a Michigan corporation, effective December 31, 2003. The Guarantee Company of North America USA (NAIC #37443) was last listed as an acceptable surety on Federal bonds at 68 FR 39203, July 1, 2003 and Mid-State Surety Corporation (NAIC #36650) was last listed as an acceptable surety on Federal bonds at 68 FR 39210, July 1, 2003.

Notice is hereby given that the Certificate of Authority issued by the Treasury to The Guarantee Company of North America USA (NAIC #37443), under the United States Code, Title 31, Sections 9304-9308, to qualify as an acceptable surety on Federal bonds is hereby terminated. With respect to any bonds currently in force with The Guarantee Company of North America USA (NAIC #37443), bond-approving officers may let such bonds run to expiration and need not secure new bonds.

In addition, Mid-State Surety Corporation (NAIC #36650) has changed its name to The Guarantee Company of North America USA effective December 31, 2003. A new Certificate of authority as an acceptable surety on Federal bonds, dated today, is hereby issued under Sections 9304 to 9308 of Title 31 of the United States Code, to The Guarantee Company of North America USA (NAIC #36650), Grosse Pointe Farms, Michigan. This new certificate replaces the Certificate of Authority issued to the company prior to the merger. A revised underwriting limitation of $5,573,000 is now established for The Guarantee Company of North America USA (NAIC #36650).

Certificates of Authority expire on June 30 each year, unless revoked prior to that date. The Certificates are subject to subsequent annual renewal as long as the companies remain qualified (31 CFR part 223). A list of qualified companies is published annually as of July 1 in Treasury Department Circular 570, with details as to underwriting limitations, areas in which licensed to transact surety business and other information.

The Circular may be viewed and downloaded through the Internet at http://www.fms.treas.gov/c570. A hard copy may be purchased from the Government Printing Office (GPO) Subscription Service, Washington, DC, Telephone (202) 512-1800. When ordering the circular from GPO, use the following stock number: 769-004-04643-2.

Questions concerning this Notice may be directed to the U.S. Department of the Treasury, Financial Management Service, Financial Accounting and Services Division, Surety Bond Branch, 3700 East-West Highway, Room 6F07, Hyattsville, MD 20782.

Dated: March 22, 2004.
Teresa Casswell,
Acting Director, Financial Accounting and Services Division, Financial Management Service.

[FR Doc. 04-6986 Filed 3-29-04; 8:45 am]

BILLING CODE 4810-35-M